DEPARTMENT OF COMMERCE

National Oceanic and Atmospheric Administration

RIN 0648-XR65

Advisory Committee to the U.S. Section to the International Commission for the Conservation of Atlantic Tunas; Second Fall Meeting

AGENCY: National Marine Fisheries Service (NMFS), National Oceanic and Atmospheric Administration (NOAA), Commerce.

ACTION: Notice of public meeting.

SUMMARY: In preparation for the 2009 ICCAT meeting, the Advisory Committee to the U.S. Section to International Commission for the Conservation of Atlantic Tunas (ICCAT) will convene its second and final fall meeting in October 2009.

DATES: The meeting will be held October 15-16, 2009. There will be an open session the morning of Thursday, October 15, 2009, from 9 a.m. to 1 p.m. The remainder of the meeting will be closed to the public. Oral and written comments can be presented during the public comment session on October 15, 2009. Written comments on issues being considered at the meeting should be received no later than October 8, 2009.

ADDRESSES: The meeting will be held at the Hilton Hotel, 8727 Colesville Road, Silver Spring, MD 20910. Written comments should be sent to Melanie King at NOAA Fisheries, Office of International Affairs, Room 12641, 1315 East-West Highway, Silver Spring, MD 20910. Written comments can also be provided via fax (301-713-2313) or email (melanie.king@noaa.gov).

FOR FURTHER INFORMATION CONTACT: Melanie King, (301) 713-9090.

SUPPLEMENTARY INFORMATION: The Advisory Committee to the U.S. Section to ICCAT will meet in open session on October 15, 2009. The Advisory Committee will receive and consider management and scientific information concerning highly migratory species, including the management recommendations of ICCAT's Standing Committee on Research and Statistics and an overview of implementation of the Committee's species working group recommendations. There will be an opportunity for oral public comment during the October 15, 2009, open session and the submission of written comments during that session is welcome. Written comments may also be submitted in advance by mail, fax, or email. Written comments submitted in advance should be received by October 8, 2009 (see ADDRESSES).

During its second fall meeting, the Advisory Committee will also meet in two executive sessions to discuss sensitive information relating to upcoming international negotiations regarding the conservation and management of Atlantic highly migratory species, including monitoring, control, and compliance matters and non-member fishing issues. These sessions are closed to the public. The first executive session will be held from 2 p.m. to 5:30 p.m. on October 15, 2009, and the second executive session will be held from 9 a.m. to 12:45 p.m. on October 16, 2009.

NMFS expects members of the public to conduct themselves appropriately for the duration of the meeting. At the beginning of the public comment session, an explanation of the ground rules will be provided (e.g., alcohol in the meeting room is prohibited, speakers will be called to give their comments in the order in which they registered to speak, each speaker will have an equal amount of time to speak, and speakers should not interrupt one another). The session will be structured so that all attending members of the public are able to comment, if they so choose, regardless of the degree of controversy of the subject(s). Those not respecting the ground rules will be asked to leave the meeting.

Special Accommodations

The meeting location is physically accessible to people with disabilities. Requests for sign language interpretation or other auxiliary aids should be directed to Melanie King at (301) 713-9090 at least five days prior to the meeting date.

Dated: September 22, 2009.
Rebecca J. Lent,
Director, Office of International Affairs, National Marine Fisheries Service.

[FR Doc. E9-23251 Filed 9-24-09; 8:45 am]

BILLING CODE 3510-22-S